DEPARTMENT OF THE INTERIOR

Office of the Secretary

Alaska Land Managers Forum

AGENCY: Office of the Secretary, Interior.

ACTION: Notice of meeting.

SUMMARY: This notice is published in accordance with section 10(a)(2) of the Federal Advisory Committee Act (FACA), 5 U.S.C. App. (1988) and 41 CFR 101-6.1015(b). The Department of the Interior hereby gives notice of a public meeting of the Alaska Land Managers Forum (ALMF) to be held on Tuesday, October 17, 2000, beginning at 9:00 a.m. It will take place at the Hampton Inn, 4301 Credit Union Drive, Anchorage, Alaska. This meeting will be held to receive and discuss work group reports and informational briefings on recreation and tourism, and to announce the 2000 ALMF Tourism Awards Program.

FOR FURTHER INFORMATION CONTACT: Ronald B. McCoy at (907) 271-5485 or Sally Rue at (907) 465-4084.

Ronald B. McCoy,
Staff Coordinator, Department of the Interior, Office of the Secretary.

[FR Doc. 00-26299 Filed 10-11-00; 8:45 am]

BILLING CODE 4310-RP-P